DEPARTMENT OF LABOR

Office of the Secretary; Agency Information Collection Activities; Submission for OMB Review; Comment Request; Workforce Innovation Fund Grants Reporting and Recordkeeping Requirements

ACTION: Notice.

SUMMARY: The Department of Labor (DOL) is submitting the Employment and Training Administration (ETA) sponsored information collection request (ICR) proposal titled, “Workforce Innovation Fund Grants Reporting and Recordkeeping Requirements,” to the Office of Management and Budget (OMB) for review and approval for use in accordance with the Paperwork Reduction Act (PRA) of 1995 (44 U.S.C. 3501 et seq.). Public comments on the ICR are invited.

DATES: The OMB will consider all written comments that agency receives on or before June 18, 2014.

ADDRESSES: A copy of this ICR with applicable supporting documentation; including a description of the likely respondents, proposed frequency of response, and estimated total burden may be obtained free of charge from the RegInfo.gov Web site at http://www.reginfo.gov/public/do/PRAViewICR?ref_nbr=201402-1205-001 (this link will only become active on the day following publication of this notice) or by contacting Michel Smyth by telephone at 202-693-4129 (this is not a toll-free number) or by email at DOL_PRA_PUBLIC@dol.gov.

Submit comments about this request by mail or courier to the Office of Information and Regulatory Affairs, Attn: OMB Desk Officer for DOL-ETA, Office of Management and Budget, Room 10235, 725 17th Street NW., Washington, DC 20503; by Fax: 202-395-6881 (this is not a toll-free number); or by email: OIRA_submission@omb.eop.gov. Commenters are encouraged, but not required, to send a courtesy copy of any comments by mail or courier to the U.S. Department of Labor-OASAM, Office of the Chief Information Officer, Attn: Departmental Information Compliance Management Program, Room N1301, 200 Constitution Avenue NW., Washington, DC 20210; or by email: DOL_PRA_PUBLIC@dol.gov.

FOR FURTHER INFORMATION CONTACT: Michel Smyth by telephone at 202-693-4129 (this is not a toll-free number) or by email at DOL_PRA_PUBLIC@dol.gov.

Authority: 44 U.S.C. 3507(a)(1)(D).

SUPPLEMENTARY INFORMATION: This ICR seeks to PRA authority for the Workforce Innovation Fund (WIF) Grants Reporting and Recordkeeping Requirements information collection. This proposed information collection features quarterly performance narrative reports that document the innovative strategies and collect information about effective practices and lessons learned from the diverse projects funded by the WIF. All data collection and reporting is done by grantee organizations (State or local governments). The proposed performance reporting requirements align with outcome categories identified in the Solicitation for Grant Applications used to award the WIF grants. The quarterly performance narrative reports provide a detailed account of program activities, accomplishments, and progress toward performance outcomes during the quarter. Specifically, these reports include aggregate information on participants' grant progress and accomplishments, grant challenges, grant technical assistance needs and success stories and lessons learned. The performance outcomes are defined by each grantee. Each grant has a unique set of performance goals and outcome measures according to the specific innovation and project being pursued in the grant. The performance narrative reports, to be completed quarterly, include a narrative of grant activities and the unique grant performance and evaluation measures and key project milestones identified by the grantees. As a result, the specific performance measures for each grant may be different.

This proposed information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information if the collection of information does not display a valid Control Number. See 5 CFR 1320.5(a) and 1320.6. For additional information, see the related notice published in the Federal Register on January 31, 2014 (79 FR 5459).

Interested parties are encouraged to send comments to the OMB, Office of Information and Regulatory Affairs at the address shown in the ADDRESSES section within 30 days of publication of this notice in the Federal Register. In order to help ensure appropriate consideration, comments should mention OMB ICR Reference Number 201402-1205-001. The OMB is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-ETA.

Title of Collection: Workforce Innovation Fund Grants Reporting and Recordkeeping Requirements.

OMB ICR Reference Number: 201402-1205-001.

Affected Public: State, Local, and Tribal Governments.

Total Estimated Number of Respondents: 26.

Total Estimated Number of Responses: 104.

Total Estimated Annual Time Burden: 2,080 hours.

Total Estimated Annual Other Costs Burden: $0.

Dated: May 13, 2014.
Michel Smyth,
Departmental Clearance Officer.

[FR Doc. 2014-11444 Filed 5-16-14; 8:45 am]

BILLING CODE 4510-FN-P